DEPARTMENT OF JUSTICE

Antitrust Division

Notice Pursuant to the National Cooperative Research and Production Act of 1993—Portland Cement Association

Notice is hereby given that, on June 8, 2004, pursuant to Section 6(a) of the National Cooperative Research and Production Act of 1993, 15 U.S.C. 4301 et seq. (“the Act”), Portland Cement Association (“PCA”) has filed written notifications simultaneously with the Attorney General and the Federal Trade Commission disclosing changes in its membership status. The notifications were filed for the purpose of extending the Act's provisions limiting the recovery of antitrust plaintiffs to actual damages under specified circumstances. Specifically, Continental Florida Materials, Fort Lauderdale, FL is now part of Lehigh Cement Company, Allentown, PA and is no longer listed as a member. Also, North Central Cement Promotion Association, Elko, MN, an Associate Member, is now known as North Central Cement Council; and ROAN Industries, Inc., Holly Hill, SC, an Associate Member, is no longer a party to the venture.

No other changes have been made in either the membership or planned activity of the group research project. Membership in this project remains open, and PCA intends to file additional written notification disclosing all changes in membership.

On January 7, 1985, PCA filed its original notification pursuant to Section 6(a) of the Act. The Department of Justice published a notice in the Federal Register pursuant to Section 6(b) of the Act on February 5, 1985 (50 FR 5015).

The last notification was filed with the Department on February 10, 2004. A notice was published in the Federal Register pursuant to Section 6(b) of the Act on March 11, 2004 (69 FR 11651).

Dorothy B. Fountain,
Deputy Director of Operations, Antitrust Division.

[FR Doc. 04-15458 Filed 7-7-04; 8:45 am]

BILLING CODE 4410-11-M